DEPARTMENT OF HEALTH AND HUMAN SERVICES

National Institutes of Health

Office of the Director, National Institutes of Health; Amended Notice of Meeting

Notice is hereby given of a change in the meeting of the Recombinant DNA Advisory Committee, January 24, 2013, 09:00 a.m. to January 24, 2013, 04:00 p.m., National Institutes of Health, Building 45, 45 Center Drive, Lower Level, Conference Room C1-C2, Rockville, MD, 20892 which was published in the Federal Register on January 08, 2013, 78FRN1216.

The time of the meeting has been changed from 9:00 a.m.-4:00 p.m. to 8:30 a.m.-4:30 p.m. Additionally, this meeting will not be webcast and there will be no opportunity to submit comments during the meeting. The meeting is open to the public.

Dated: January 16, 2013.
Carolyn A. Baum,
Program Analyst, Office of Federal Advisory Committee Policy.

[FR Doc. 2013-01231 Filed 1-22-13; 8:45 am]

BILLING CODE 4140-01-P